DEPARTMENT OF STATE

[Public Notice 4201]

Culturally Significant Objects Imported for Exhibition Determinations: “Einstein: Changing the World”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the object to be included in the exhibition “Einstein: Changing the World,” imported from abroad for temporary exhibition within the United States, is of cultural significance. The objects are imported pursuant to a loan agreement with the foreign owner. I also determine that the exhibition or display of the exhibit objects at the American Museum of Natural History, New York, NY from on or about November 10, 2002 to on or about August 10, 2003, the Field Museum, Chicago, IL from on or about October 18, 2003 to on or about January 11, 2004, the Museum of Science, Boston, MA from on or about March 13, 2004 to on or about June 6, 2004, the Skirball Cultural Center, Los Angeles, CA from on or about September 9, 2004 to on or about May 29, 2005, and at possible additional venues yet to be determined, is in the national interest. Public Notice of these Determinations is ordered to be published in the Federal Register.

FOR FURTHER INFORMATION CONTACT: For further information, including a list of the exhibit objects, contact Carol B. Epstein, Attorney-Adviser, Office of the Legal Adviser, U.S. Department of State, (telephone: (202) 619-6981). The address is U.S. Department of State, SA-44, 301 4th Street, SW., Room 700, Washington, DC 20547-0001.

Dated: November 1, 2002.
Patricia S. Harrison,
Assistant Secretary for Educational and Cultural Affairs, Department of State.

[FR Doc. 02-28397 Filed 11-6-02; 8:45 am]

BILLING CODE 4710-08-P